DEPARTMENT OF TRANSPORTATION

National Highway Traffic Safety Administration

[U.S. DOT Docket Number NHTSA-2007-28104]

Reports, Forms, and Recordkeeping Requirements

AGENCY: National Highway Traffic Safety Administration (NHTSA), Department of Transportation.

ACTION: Correction Notice.

SUMMARY: This document corrects the mailing addresses and the completeness of the notice published on June 21, 2007 (72 FR 34348) for the Paperwork Reduction Action of 1995 (44 U.S.C. 3501 et seq., OMB Control Number 2127-0573).

DATES: Comments must be received on or before August 20, 2007.

FOR FURTHER INFORMATION CONTACT: Ms. Deborah Mazyck at the National Highway Traffic Safety Administration, Office of International Vehicle, Fuel Economy and Consumer Standards, 1200 New Jersey Avenue, SE., West Building, Room W43-443, Washington, DC 20590. Ms. Mazyck's telephone number is (202-366-4139). Please identify the relevant collection of information by referring to its OMB Control Number.

SUPPLEMENTARY INFORMATION: The National Highway Traffic Safety Administration is correcting the mailing addresses in the June 21, 2007 notice. The U.S. Department of Transportation's Docket Management Facility has moved to a new location. You may mail comments identified by DOT Docket No. NHTSA-2007-28104 to Docket Management Facility, U.S. Department of Transportation, 1200 New Jersey Avenue, SE., West Building, Ground Floor, Room W12-140, Washington, DC 20590.

You may hand deliver comments or obtain access to the docket to read background documents or comments received on this collection by going to 1200 New Jersey Avenue, SE., West Building, Ground Floor, Room W12-140, Washington, DC between 9 a.m. and 5 p.m., Monday through Friday, except Federal Holidays.

Additionally, NHTSA is correcting the omission of information from the June 21, 2007, notice. Specifically, comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: August 10, 2007.
Stephen R. Kratzke,
Associate Administrator for Rulemaking.

[FR Doc. E7-16108 Filed 8-15-07; 8:45 am]

BILLING CODE 4910-59-P